DEPARTMENT OF TRANSPORTATION

Federal Aviation Administration

14 CFR Part 71

[Docket No. FAA-2016-9499; Airspace Docket No. 16-ASO-19]

Amendment of Class D and Class E Airspace; Fort Knox, KY, and Louisville, KY

AGENCY: Federal Aviation Administration (FAA), DOT.

ACTION: Final rule.

SUMMARY: This action amends Class E airspace designated as an extension to Class D airspace by removing the Notice to Airmen (NOTAM) part-time status at Godman Army Airfield (AAF) Fort Knox, KY; and Bowman Field Airport, Louisville, KY. This action also updates and corrects the geographic coordinates of these airports, and Louisville International Airport-Standiford Field (formerly Louisville Standiford Field) in the associated Class D and E airspace descriptions. This action enhances the safety and management of instrument flight rules (IFR) operations at the airport.

DATES: Effective 0901 UTC, February 1, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed on-line at http://www.faa.gov/air_traffic/publications/. For further information, you can contact the Airspace Policy Group, Federal Aviation Administration, 800 Independence Avenue SW., Washington, DC 20591; telephone: (800) 647-8927, or (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, P.O. Box 20636, Atlanta, GA 30320; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and E airspace in the Fort Knox, KY, and Louisville, KY areas, to support IFR operations at these airports.

History

The FAA published a notice of proposed rulemaking in the Federal Register (82 FR 24269, May 26, 2017) Docket No. FAA-2016-9499 proposing to remove NOTAM part-time information from Class E airspace designated as an extension to Class D airspace at Godman Army Airfield, Fort Knox, KY, and Bowman Field Airport, Louisville, KY. Also, the NPRM proposed to update the geographic coordinates of these airports, and Louisville International Airport-Standiford Field. Subsequent to publication, the FAA found that some of the geographic coordinates were incorrect and makes the correction in this rule. Also, this action recognizes the name change of Louisville International Airport-Standiford Field, (formerly Louisville Standiford Field).

Interested parties were invited to participate in this rulemaking effort by submitting written comments on the proposal to the FAA. No comments were received.

Class D and E airspace designations are published in paragraphs 5000, 6002, 6004, and 6005 of FAA Order 7400.11B dated August 3, 2017, and effective September 15, 2017, which is incorporated by reference in 14 CFR part 71.1. The Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to Title 14, Code of Federal Regulations (14 CFR) part 71 removes the NOTAM part-time status of the Class E airspace designated as an extension to a Class D surface area at Godman Army Airfield (AAF) Fort Knox, KY; and Bowman Field Airport, Louisville, KY.

Also, the geographic coordinates are amended and corrected at these airports and Louisville International-Standiford Field Airport, KY, in Class D airspace, Class E surface airspace, Class E airspace designated as an extension to a Class D surface area, and Class E airspace areas extending upward from 700 feet or more above the surface to be in concert with the FAA's aeronautical database. Also, the name change of Louisville International Airport-Standiford Field, (formerly Louisville Standiford Field) is recognized.

These changes are necessary for continued safety and management of IFR operations at these airports.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.11B, Airspace Designations and Reporting Points, dated August 3, 2017, effective September 15, 2017, is amended as follows:

Paragraph 5000 Class D Airspace.

* * * * *

ASO KY D Fort Knox, KY [Amended]

Godman AAF, KY

(Lat. 37°54′26″ N., long. 85°58′18″ W.)

That airspace extending upward from the surface to and including 3,300 feet MSL within a 3.9-mile radius of Godman AAF. This Class D airspace area is effective during the specific days and times established in advance by a Notice to Airmen. The effective days and times will thereafter be continuously published in the Chart Supplement (previously called Airport/Facility Directory).

ASO KY D Louisville Bowman Field, KY [Amended]

Bowman Field Airport, KY

(Lat. 38°13′41″ N., long. 85°39′49″ W.)

That airspace extending upward from the surface to but not including 2,200 feet MSL within a 3.9-mile radius of Bowman Field Airport. This Class D airspace area is effective during the specific dates and times established in advance by a Notice to Airmen. The effective date and time will thereafter be continuously published in the Chart Supplement (previously called Airport/Facility Directory).

Paragraph 6002 Class E Surface Area Airspace.

* * * * *

ASO KY E2 Fort Knox, KY [Amended]

Godman AAF, KY

(Lat. 37°54′26″ N., long. 85°58′18″ W.)

Within a 3.9-mile radius of Godman AAF. This Class E airspace area is effective during the specific dates and times established in advance by a Notice to Airmen. The effective date and time will thereafter be continuously published in the Chart Supplement (previously called Airport/Facility Directory).

* * * * *

ASO KY E2 Louisville Bowman Field, KY [Amended]

Bowman Field Airport, KY

(Lat. 38°13′41″ N., long. 85°39′49″ W.)

Within a 3.9-mile radius of Bowman Field Airport. This Class E airspace area is effective during the specific dates and times established in advance by a Notice to Airmen. The effective date and time will thereafter be continuously published in the Chart Supplement (previously called Airport/Facility Directory).

Paragraph 6004 Class E Airspace Designated as an Extension to a Class D Surface Area.

* * * * *

ASO KY E4 Fort Knox, KY [Amended]

Godman AAF, KY

(Lat. 37°54′26″ N., long. 85°58′18″ W.)

Godman NDB

(Lat. 37°57′31″ N., long. 85°58′36″ W.)

That airspace extending upward from the surface within 2.4 miles each side of the 354° bearing from Godman NDB, extending from the 3.9-mile radius of Godman AAF to 7 miles north of the NDB.

ASO KY E4 Louisville Bowman Field, KY [Amended]

Bowman Field Airport, KY

(Lat. 38°13′41″ N., long. 85°39′49″ W.)

Bowman VOR/DME

(Lat. 38°13′49″ N., long. 85°39′53″ W.)

That airspace extending upward from the surface within 2.4 miles each side of the Bowman VOR/DME 067° radial, extending from the 3.9-mile radius of Bowman Field Airport to 7 miles east of the Bowman VOR/DME.

Paragraph 6005 Class E Airspace Areas Extending Upward From 700 Feet or More Above the Surface of the Earth.

* * * * *

ASO KY E5 Fort Knox, KY [Amended]

Godman AAF, KY

(Lat. 37°54′26″ N., long. 85°58′18″ W.)

Godman NDB

(Lat. 37°57′31″ N., long. 85°58′36″ W.)

That airspace extending upward from 700 feet above the surface within a 6.3-mile radius of Godman AAF and within 2.4 miles each side of the 354° bearing from Godman NDB, extending from the 6.3-mile radius to 7 miles north of the NDB.

ASO KY E5 Louisville, KY [Amended]

Louisville International-Standiford Field Airport, KY

(Lat. 38°10′27″ N., long. 85°44′11″ W.)

Bowman Field Airport, KY

(Lat. 38°13′41″ N., long. 85°39′49″ W.)

That airspace extending upward from 700 feet above the surface within a 10-mile radius of Louisville International-Standiford Field and within 2.4 miles each side of the ILS localizer east course, extending from the 10-mile radius to 7 miles east of the LOM and within a 10-mile radius of Bowman Field Airport.

Issued in College Park, Georgia, on October 18, 2017.
Ryan W. Almasy,
Manager, Operation Support Group, Eastern Service Center, Air Traffic Organization.

[FR Doc. 2017-23254 Filed 10-31-17; 8:45 am]

BILLING CODE 4910-13-P